DEPARTMENT OF TRANSPORTATION

Surface Transportation Board

[Docket No. AB-167 (Sub-No. 1095X)]

Consolidated Rail Corporation—Abandonment Exemption—Lancaster and Chester Counties, PA

AGENCY: Surface Transportation Board, DOT.

ACTION: Notice to the parties.

SUMMARY: Pursuant to section 106 of the National Historic Preservation Act, the Surface Transportation Board's Section of Environmental Analysis announces the availability of the notice to the parties, which summarizes and responds to all comments received in response to the October 2003 notice and draft Memorandum of Agreement (MOA), including those that favor converting this railroad right-of-way to a trail, and presents the Final MOA to the parties and the public.

FOR FURTHER INFORMATION CONTACT: Christa Dean, (202) 565-1606. (Assistance for the hearing impaired is available through the Federal Information Relay Service (FIRS) at 1-800-877-8339.)

SUPPLEMENTARY INFORMATION: Under section 106 of the National Historic Preservation Act (16 U.S.C. 470f), Federal agencies are required to consider the adverse effects of their decisions on historic properties. In this proceeding, the entire line proposed for abandonment exemption was determined to be historic by the Keeper of the National Register of Historic Places. As part of its effort to determine appropriate mitigation measures, the Section of Environmental Analysis (SEA) issued a notice to the parties and a proposed draft Memorandum of Agreement (MOA) for public review and comment, on October 20, 2003, and held two public meetings in Quarryville, PA, on November 19, 2003. After careful consideration of all comments received, SEA announces the availability of the notice to the parties, which: (1) Summarizes and responds to all oral and written comments received in response to the October 2003 notice and draft MOA, including those that favor converting this railroad right-of-way to interim trail use/railbanking pursuant to 16 U.S.C. 1247(d) (Trails Act), or a privately negotiated trail use agreement entered into after the abandonment is consummated, and (2) includes the Final MOA, which sets forth measures for mitigating adverse effects of the proposed abandonment on historic properties. SEA has circulated the Final MOA to the signatory and concurring parties for signature.

The complete notice to the parties is available on the Board's Web site at: www.stb.dot.gov.

Decided: April 12, 2004.
By the Board, Chairman Nober.
Vernon A. Williams,
Secretary.

[FR Doc. 04-8206 Filed 4-9-04; 8:45 am]

BILLING CODE 4915-01-P